DEPARTMENT OF HEALTH AND HUMAN SERVICES

Food and Drug Administration

[Docket No. 2007N-0330]

Presidential Interagency Working Group on Import Safety; Public Meeting

AGENCY: Food and Drug Administration, HHS.

ACTION: Notice of public meeting; request for comments.

SUMMARY: The Interagency Working Group on Import Safety (Working Group) is announcing a public meeting to identify actions the public and private sectors can take to promote the safety of products imported into the United States. The Working Group was created by the Executive order on July 18, 2007.

DATES: The public meeting will be held on October 1, 2007, from 8 a.m. to 6 p.m. Persons interested in attending the meeting in person or by teleconference must register by September 17, 2007. See section III.B of the SUPPLEMENTARY INFORMATION section of this document for details on how to register. Submit written or electronic comments by October 1, 2007.

ADDRESSES: The public meeting will be held in the Jefferson Auditorium, U.S. Department of Agriculture, 1400 Independence Ave., SW., South Bldg., Washington, DC 20090. The public may also attend or present at the meeting by teleconference (audio bridge).

Submit written comments to the Division of Dockets Management (HFA-305), Food and Drug Administration, 5630 Fishers Lane, rm. 1061, Rockville, MD 20852. Submit electronic comments to either http://www.fda.gov/dockets/ecomments or http://www.regulations.gov. All comments should be identified with the docket number found in brackets in the heading of this document.

FOR FURTHER INFORMATION CONTACT: For information regarding the meeting or this notice: Erik Mettler, Office of Policy (HF-11), Food and Drug Administration, 5600 Fishers Lane, Rockville, MD 20857, 301-827-3360, FAX: 301-594-6777, e-mail: erik.mettler@fda.hhs.gov.

SUPPLEMENTARY INFORMATION:

I. Background

The Working Group was established by Executive Order 13439 on July 18, 2007, to conduct a comprehensive review of current import safety practices and determine where improvements can be made. The Working Group, chaired by the Department of Health and Human Services' Secretary Michael O. Leavitt, is comprised of officials from the Department of Health and Human Services; the Department of State; the Department of the Treasury; the Department of Justice; the Department of Agriculture; the Department of Commerce; the Department of Transportation; the Department of Homeland Security; the Office of Management and Budget; the Office of the United States Trade Representative; the Environmental Protection Agency; and the Consumer Product Safety Commission.

The mission of the Working Group is to identify actions and appropriate steps that can be pursued, within existing resources, to promote the safety of imported products, including the following:

(1) Reviewing or assessing current procedures and methods aimed at ensuring the safety of products exported to the United States; these current procedures and methods include: Reviewing existing cooperation with foreign governments, foreign manufacturers, and others in the exporting country's private sector regarding their inspection and certification of exported goods and factories producing exported goods; and considering whether additional initiatives should be undertaken with respect to exporting countries or companies;

(2) Identifying potential means to promote all appropriate steps by U.S. importers to enhance the safety of imported products, including identifying best practices by U.S. importers in selection of foreign manufacturers, inspecting manufacturing facilities, inspecting goods produced on their behalf either before export or before distribution in the United States, identifying origin of products, and safeguarding the supply chain; and

(3) Surveying authorities and practices of Federal, State, and local government agencies regarding the safety of imports to identify best practices and enhance coordination among agencies.

The Working Group plans to release a Strategic Framework to promote import safety and deliver this report to the President by the September 17, 2007, due date (see DATES). The Working Group plans to release a followup Action Plan by mid-November 2007. This Action Plan will take into consideration the feedback received from the public, and recommend specific actions the Federal Government and all parties involved can take to enhance import safety on all levels.

II. Purpose of the Public Meeting

The objective of the Import Safety public meeting, to be held on October 1, 2007, is to identify and recommend actions that persons involved in the production, distribution, importation, regulation, and use of imported products, including government, industry, and consumers can take to promote the safety of such products.

To help achieve this objective, the Working Group would like public comments to address the following questions:

1. What are the key challenges for industry, consumers, and foreign, State and local governments to ensure the safety of products imported into the United States?

2. Consistent with the Strategic Framework, the Working Group will recommend to the President by September 17, 2007, what actions should persons involved in the production, distribution, importation, regulation, and use of imported products, including Federal, State, local and foreign governments, manufacturers, distributors, brokers, importers, and consumers take, individually or jointly, to promote the safety of imported products? What should the Federal government and others do to implement or facilitate the implementation of these actions?

3. For each action, what is the benefit(s) of implementing this recommendation? What is the cost(s) of implementing this recommendation? What challenge(s) does it address? Are there other actions that must or should be taken first before implementing this recommendation?

III. What Information Should You Know About the Meeting?

A. When and Where Will the Meeting Occur? What Format Will We Use?

Through this document, we are announcing the convening of a public meeting to hear recommendations on actions that can be taken to promote import safety. Representatives from member Departments of the Working Group will preside over the meeting.

We will conduct the meeting on October 1, 2007, in the Jefferson Auditorium (see ADDRESSES). The meeting format will include presentations by persons registered to speak.

B. How Do You Register for the Meeting or Submit Comments?

If you wish to attend the meeting in person or by teleconference and/or make a presentation at the meeting, send an e-mail message to Erik Mettler (see FOR FURTHER INFORMATION CONTACT) by close of business on September 17, 2007. Your e-mail should include the following information: Name, company, company address, company telephone number, e-mail address, whether you will attend the meeting in person or by teleconference, and whether you wish to speak at the meeting. We will send you a confirmation within 2 business days after we receive your registration request. Registration is free and will be on a first-come, first-serve basis.

We also will accept walk-in registration at the meeting site, but space is limited, and we will close registration when maximum seating capacity (approximately 500) is reached.

We will try to accommodate all persons who wish to speak. The time allotted for presentations may depend on the number of persons who wish to speak. Individuals will be able to make a presentation at the meeting either in person or by teleconference.

Additionally, regardless of whether you wish to make a presentation or simply attend the meeting, contact Erik Mettler (see FOR FURTHER INFORMATION CONTACT) if you need any special accommodations (such as wheelchair access or a sign language interpreter).

If you would like to submit electronic or written comments, please send your comments to the Division of Dockets Management (see ADDRESSES). Submit a single copy of electronic comments or two paper copies of any written comments, except that individuals may submit one paper copy. Comments are to be identified with the docket number found in brackets in the heading of this document. Received comments may be seen in the Division of Dockets Management between 9 a.m. and 4 p.m., Monday through Friday. Written or electronic comments must be received no later than (see DATES).

C. Will Meeting Transcripts Be Available?

We will prepare a meeting transcript and make it available on FDA's Web site (http://www.fda.gov/ohrms/dockets) after the meeting. We anticipate that transcripts will be available approximately 21 business days after the meeting. The transcript will also be available for public examination at the Division of Dockets Management (see ADDRESSES).

Dated: August 24, 2007.
Jeffrey Shuren,
Assistant Commissioner for Policy.

[FR Doc. E7-17305 Filed 8-30-07; 8:45 am]

BILLING CODE 4160-01-S